DEPARTMENT OF TRANSPORTATION

Federal Aviation Administration

14 CFR Part 39

[Docket No. FAA-2005-22455; Directorate Identifier 2005-NM-095-AD; Amendment 39-14489; AD 2006-04-08]

RIN 2120-AA64

Airworthiness Directives; Airbus Model A300 B4-600, B4-600R, and F4-600R Series Airplanes, and Model C4-605R Variant F Airplanes (Collectively Called A300-600 Series Airplanes); and Model A310-300 Series Airplanes

AGENCY: Federal Aviation Administration (FAA), Department of Transportation (DOT).

ACTION: Final rule.

SUMMARY: The FAA is adopting a new airworthiness directive (AD) for certain Airbus Model A300 B4-600, B4-600R, and F4-600R series airplanes, and Model C4-605R Variant F airplanes (collectively called A300-600 series airplanes); and Model A310-300 series airplanes. This AD requires inspecting the pilot's and co-pilot's seats to determine if a certain actuator having a certain part number is installed, and corrective action if necessary. This AD results from a production defect found in certain actuators during overhaul of the pilot's and co-pilot's seats. We are issuing this AD to prevent uncommanded movement of the pilot's or co-pilot's seat, which could result in interference with the operation of the airplane and consequent temporary loss of airplane control.

DATES: This AD becomes effective March 24, 2006.

The Director of the Federal Register approved the incorporation by reference of certain publications listed in the AD as of March 24, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tom Stafford, Aerospace Engineer, ANM-116, International Branch, FAA, Transport Airplane Directorate, 1601 Lind Avenue, SW., Renton, Washington 98055-4056; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A300 B4-600, B4-600R, and F4-600R series airplanes, and Model C4-605R Variant F airplanes (collectively called A300-600 series airplanes); and Model A310-300 series airplanes. That NPRM was published in the Federal Register on September 19, 2005 (70 FR 54852). That NPRM proposed to require inspecting the pilot's and co-pilot's seats to determine if a certain actuator having a certain part number is installed, and corrective action if necessary.

Comments

We provided the public the opportunity to participate in the development of this AD. We have considered the comments received.

Request To Include Revised Service Information

One commenter, the airplane manufacturer, asks that we change the NPRM to refer to Airbus Service Bulletin A300-25-6194, Revision 01, dated April 8, 2005 (for A300-600 series airplanes), as an “acceptable means of compliance” for accomplishing the actions. The NPRM refers to the original issue of the service bulletin as the acceptable source of service information for accomplishing the proposed actions.

We agree with the commenter's request. The procedures in Revision 01 of the referenced service bulletin are essentially the same as those in the original issue of the service bulletin. Revision 01 merely adds one manufacturer serial number to those identified in the service bulletin effectivity. Accordingly, we have revised paragraph (f) of this AD to refer to Revision 01 as the appropriate source of service information for accomplishing the required actions. We have also added a new paragraph (g) (and re-identified subsequent paragraphs accordingly) to state that inspections and corrective actions accomplished before the effective date of this AD per the original issue of the service bulletin are acceptable for compliance with this AD.

Request To Reference Parts Manufacturer Approval (PMA) Parts

One commenter requests that the language in the NPRM be changed to permit installation of PMA equivalent parts. The commenter states that the mandated installation of a certain part number “is in conflict with existing law (FAR 21.303),” which permits the installation of other PMA parts.

We infer that the commenter would like the AD to permit installation of any equivalent PMA part so that it is not necessary for an operator to request approval of an alternative method of compliance (AMOC) in order to install an “equivalent” PMA part. Whether an alternative part is “equivalent” in adequately resolving the unsafe condition can only be determined on a case-by-case basis based on a complete understanding of the unsafe condition. We are not currently aware of any such parts. Our policy is that, in order for operators to replace a part with one that is not specified in the AD, they must request an AMOC. This is necessary so that we can make a specific determination that an alternative part is or is not susceptible to the same unsafe condition.

In response to the commenter's statement regarding a “variance with FAR 21.303,” under which the FAA issues PMAs, this statement appears to reflect a misunderstanding of the relationship between ADs and the certification procedural regulations of part 21 of the Federal Aviation Regulations (14 CFR part 21). Those regulations, including section 21.303 of the Federal Aviation Regulations (14 CFR 21.203), are intended to ensure that aeronautical products comply with the applicable airworthiness standards. ADs are issued when, notwithstanding those procedures, we become aware of unsafe conditions in these products or parts. Therefore, an AD takes precedence over design approvals when we identify an unsafe condition, and mandating installation of a certain part number in an AD is not at variance with section § 21.303.

The AD provides a means of compliance for operators to ensure that the identified unsafe condition is addressed appropriately. For an unsafe condition attributable to a part, the AD normally identifies the replacement parts necessary to obtain that compliance. As stated in section 39.7 of the Federal Aviation Regulations (14 CFR 39.7), “Anyone who operates a product that does not meet the requirements of an applicable airworthiness directive is in violation of this section.” Unless an operator obtains approval for an AMOC, replacing a part with one not specified by the AD would make the operator subject to an enforcement action and result in a civil penalty. We have made no change to the AD in this regard.

Request To Address Defective PMA Parts

The same commenter also requests that the NPRM be revised to cover possible defective PMA alternative parts, rather than just a single part number, so that those defective PMA parts also are subject to the NPRM. The commenter states that, often, the service document specifies a defective part with the requirement that the defective part be replaced by a “new and improved” part. This fails to address the possibility that a PMA part may be installed instead of the original part. Since the PMA part may often share the identical design data with the original part, while having a completely different part number, it is possible that the AD will not address certain defective PMA parts installed on the airplane. This would allow the unsafe condition to continue.

We agree with the commenter's general request that, if we know that an unsafe condition also exists in PMA parts, the AD should address those parts, as well as the original parts. As the commenter states, in this case, the identified PMA part has a different part number than the original, and is therefore not subject to the requirements of this AD. We are not aware of other PMA parts that have a different part number. The commenter's remarks are timely in that the Transport Airplane Directorate currently is in the process of reviewing this issue as it applies to transport category airplanes. We acknowledge that there may be other ways of addressing this issue to ensure that unsafe PMA parts are identified and addressed. Once we have thoroughly examined all aspects of this issue, including input from industry, and have made a final determination, we will consider whether our policy regarding addressing PMA parts in ADs needs to be revised. We consider that to delay this AD action would be inappropriate, since we have determined that an unsafe condition exists and that replacement of certain parts must be accomplished to ensure continued safety. Therefore, we have made no change to the AD in this regard.

Clarification of AMOC Paragraph

We have revised paragraph (j) of this AD to clarify the appropriate procedure for notifying the principal inspector before using any approved AMOC on any airplane to which the AMOC applies.

Conclusion

We have carefully reviewed the available data, including the comments received, and determined that air safety and the public interest require adopting the AD with the changes described previously. These changes will neither increase the economic burden on any operator nor increase the scope of the AD.

Costs of Compliance

This AD affects about 169 airplanes of U.S. registry. The inspection takes about 1 work hour per airplane, at an average labor rate of $65 per work hour. Based on these figures, the estimated cost of the AD for U.S. operators is $10,985, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-04-08 Airbus: Amendment 39-14489. Docket No. FAA-2005-22455; Directorate Identifier 2005-NM-095-AD.

Effective Date

(a) This AD becomes effective March 24, 2006.

Affected ADs

(b) None.

Applicability

(c) This AD applies to Airbus Model A300 B4-601, B4-603, B4-620, and B4-622 airplanes, A300 B4-605R and B4-622R airplanes, A300 F4-605R and F4-622R airplanes, and A300 C4-605R Variant F airplanes; and Airbus Model A310-304, -322, -324, and -325 airplanes; certificated in any category; equipped with Sogerma Socea powered seats having part number (P/N) TAAI2-13PE00-01, -13PE01-01, -13CE00-01, or 13CE01-01 installed.

Unsafe Condition

(d) This AD results from a production defect found in certain actuators during overhaul of the pilot's and co-pilot's seats. We are issuing this AD to prevent uncommanded movement of the pilot's or co-pilot's seat, which could result in interference with the operation of the airplane and consequent temporary loss of airplane control.

Compliance

(e) You are responsible for having the actions required by this AD performed within the compliance times specified, unless the actions have already been done.

Inspection for Actuator Part Numbers and Corrective Action

(f) Within 600 flight hours or 30 days after the effective date of this AD, whichever is first: Inspect to determine if a Messier Bugatti (Labinal) actuator with P/N 4136290004 or 4136290005 is installed on the pilot's or co-pilot's seat by doing all the actions specified in the Accomplishment Instructions of Airbus Service Bulletin A310-25-2182 (for A310-300 series airplanes), dated February 1, 2005, or A300-25-6194, Revision 01 (for A300-600 series airplanes), dated April 8, 2005, as applicable.

(1) If no actuator with the identified P/N is installed, no further action is required by this paragraph.

(2) If any actuator with any identified P/N is installed: Within 6 months after the effective date of this AD, replace the affected actuator with a new actuator in accordance with the Accomplishment Instructions of the applicable service bulletin.

Note 1: Airbus Service Bulletins A310-25-2182 and A300-25-6194 reference Sogerma-Services Service Bulletin TAAI2-25-616, dated November 30, 2004, as an additional source of service information for accomplishing the actuator replacement.

Credit for Previous Issue of Service Bulletin

(g) Inspections and corrective action accomplished before the effective date of this AD in accordance with Airbus Service Bulletin A300-25-6194 (for A300-600 series airplanes), dated February 1, 2005, is acceptable for compliance with the actions required by paragraph (f) of this AD.

Parts Installation

(h) After the effective date of this AD, no Messier Bugatti (Labinal) actuator with P/N 4136290004 or 4136290005 may be installed on any airplane.

No Reporting Required

(i) Although the service bulletins referenced in this AD specify to submit an inspection report to the manufacturer, this AD does not include that requirement.

Alternative Methods of Compliance (AMOCs)

(j)(1) The Manager, International Branch, ANM-116, FAA, Transport Airplane Directorate, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(k) French airworthiness directive F-2005-038, dated March 2, 2005, also addresses the subject of this AD.

Material Incorporated by Reference

(l) You must use Airbus Service Bulletin A310-25-2182, excluding Appendix 01, dated February 1, 2005; or Airbus Service Bulletin A300-25-6194, Revision 01, excluding Appendix 01, dated April 8, 2005; as applicable, to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/ code_of_ federal_regulations/ibr_locations.html.

Issued in Renton, Washington, on February 7, 2006.
Kalene C. Yanamura,
Acting Manager, Transport Airplane Directorate, Aircraft Certification Service.

[FR Doc. 06-1404 Filed 2-16-06; 8:45 am]

BILLING CODE 4910-13-P